DEPARTMENT OF HEALTH AND HUMAN SERVICES

Administration for Children and Families

Re-allotment of FY 2006 Funds for the Low Income Home Energy Assistance Program (LIHEAP)

AGENCY: Office of Community Services, ACF, HHS.

ACTION: Notice of determination concerning funds available for reallotment.

C.F.D.A. Number: 93.568.

SUMMARY: In accordance with Section 2607(b)(1) of the Low Income Home Energy Assistance Act (the Act), Title XXVI of the Omnibus Budget Reconciliation Act of 1981 (42 U.S.C. 8621, et seq.), as amended, a notice was published in the Federal Register on August 1, 2007 announcing the Secretary's preliminary determination that $326,894 in Fiscal Year (FY) 2006 funds may be available for re-allotment. After a 30-day comment period, this amount has not changed. This notice announces that $326,894 will be re-allotted to current Low Income Home Energy Assistance Program (LIHEAP) grantees.

Pursuant to the statute cited above, funds will be re-allotted to LIHEAP grantees based upon the normal allocation formula as if the funds had been appropriated for FY 2007. No subgrantees or other entities may apply for these funds.

FOR FURTHER INFORMATION CONTACT: Nick St. Angelo, Director, Division of Energy Assistance, Office of Community Services, 370 L'Enfant Promenade, SW., Washington, DC 20447; telephone (202) 401-9351.

Dated: September 13, 2007.
Josephine B. Robinson,
Director, Office of Community Services.

[FR Doc. E7-18580 Filed 9-19-07; 8:45 am]

BILLING CODE 4184-01-P